DEPARTMENT OF THE INTERIOR

National Park Service

[NPS-WASO-NAGPRA-NPS0036488; PPWOCRADN0-PCU00RP14.R50000]

Notice of Inventory Completion: Autry Museum of the American West, Los Angeles, CA

AGENCY: National Park Service, Interior.

ACTION: Notice.

SUMMARY: In accordance with the Native American Graves Protection and Repatriation Act (NAGPRA), the Autry Museum of the American West has completed an inventory of human remains and associated funerary objects and has determined that there is a cultural affiliation between the human remains and associated funerary objects and Indian Tribes or Native Hawaiian organizations in this notice. The human remains and associated funerary objects were removed from San Luis Obispo County, CA.

DATES: Repatriation of the human remains and associated funerary objects in this notice may occur on or after October 2, 2023.

ADDRESSES: Karimah Richardson, M.Phil., RPA, Associate Curator of Anthropology and Repatriation Supervisor, Autry Museum of the American West, 4700 Western Heritage Way, Los Angeles, CA 90027, telephone (323) 495-4203, email krichardson@theautry.org.

SUPPLEMENTARY INFORMATION: This notice is published as part of the National Park Service's administrative responsibilities under NAGPRA. The determinations in this notice are the sole responsibility of the Autry Museum of the American West. The National Park Service is not responsible for the determinations in this notice. Additional information on the determinations in this notice, including the results of consultation, can be found in the inventory or related records held by the Autry Museum of the American West.

Description

At an unknown date, human remains representing, at minimum, one individual were removed by Mrs. Gladys Knight Harris, a cultural anthropologist from Santa Barbara County, CA, from an unknown site on Morro Bay in San Luis Obispo County, CA. In 1983, Mrs. Knight Harris donated these human remains, together with associated funerary objects, to the Southwest Museum. The human remains, which consist of a mandible, belong to an adult of undetermined sex. The 26 associated funerary objects are 10 shell fragments, six faunal bone fragments, one lot consisting of ochre fragments, and nine shell beads.

Sometime around 1967, human remains representing, at minimum, one individual were removed by Mr. Robert Henze from an unknown site at Ragged Point, located 15 miles north of San Simeon, in San Luis Obispo County, CA. Mr. Henze had found these human remains eroding from Ragged Point, and in 1972, he donated them to the Southwest Museum. The human remains, which consist of a cranium and a mandible, belong to an adult (probably female) between 35 and 50 years old. The one associated funerary object is a lot consisting of soil.

Based on the associated funerary objects, the Autry Museum has determined that these human remains belong to a Native American burial. Moreover, the presence of red ochre, which is a hallmark of Chumash and nearby southern California tribal funerary practice, supports an identification of this burial as Northern Chumash or Salinan.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, historical, and oral traditional.

Determinations

Pursuant to NAGPRA and its implementing regulations, and after consultation with the appropriate Indian Tribes and Native Hawaiian organizations, the Autry Museum of the American Indian has determined that:

• The human remains described in this notice represent the physical remains of two individuals of Native American ancestry.

• The 27 objects described in this notice are reasonably believed to have been placed with or near individual human remains at the time of death or later as part of the death rite or ceremony.

• There is a relationship of shared group identity that can be reasonably traced between the human remains and associated funerary objects described in this notice and the Santa Ynez Band of Chumash Mission Indians of the Santa Ynez Reservation, California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after October 2, 2023. If competing requests for repatriation are received, the Autry Museum of the American West must determine the most appropriate requestor prior to repatriation. Requests for joint repatriation of the human remains and associated funerary objects are considered a single request and not competing requests. The Autry Museum of the American West is responsible for sending a copy of this notice to the Indian Tribe identified in this notice.

Authority: Native American Graves Protection and Repatriation Act, 25 U.S.C. 3003, and the implementing regulations, 43 CFR 10.9, 10.10, and 10.14.

Dated: August 23, 2023.
Melanie O'Brien,
Manager, National NAGPRA Program.

[FR Doc. 2023-18817 Filed 8-30-23; 8:45 am]

BILLING CODE 4312-52-P